DEPARTMENT OF THE INTERIOR

Fish and Wildlife Service

Notice of Intent To Prepare an Environmental Impact Statement for Issuance of Permits, to Incidentally Take Threatened and Endangered Species, to the City of Sacramento and Sutter County in Association with a revised Natomas Basin Habitat Conservation Plan, Sacramento and Sutter Counties, California

AGENCY: Fish and Wildlife Service, Interior.

ACTION: Notice of intent.

SUMMARY: The Fish and Wildlife Service (Service), is considering approval of a revised Natomas Basin Habitat Conservation Plan (Plan) and re-issuance of an Endangered Species Act Incidental Take Permit (Permit), under section 10(a)(1)(B) of the Endangered Species Act, to the City of Sacramento (City) and issuing a Permit to Sutter County. These municipalities have the majority of land use authority in the Natomas Basin. The permit would authorize incidental take of listed species and unlisted species that may be listed in the future. Incidental take of listed species could occur as a result of urban development, certain on-going rice farming activities, and management of habitat reserves.

Pursuant to the National Environmental Policy Act, the Service intends to prepare an Environmental Impact Statement addressing the proposed action of approving the Plan and issuing Permits. The Plan covers the entire 53,341-acre Natomas Basin, including portions of the City and Sacramento and Sutter Counties that occur within the basin. The Environmental Impact Statement will also serve as an Environmental Impact Report under the California Environmental Quality Act. The Plan addresses the incidental take of the federally listed threatened giant garter snake (Thamnophis gigas), Aleutian Canada goose (Branta canadensis leucopareia), valley elderberry longhorn beetle (Desmocerus californicus dimorphus), the endangered vernal pool fairy shrimp (Branchinecta lynchi), vernal pool tadpole shrimp (Lepidurus packardi), conservancy fairy shrimp (Branchinecta conservatio), longhorn fairy shrimp (Branchinecta longiantenna), Colusa grass (Neostapfia colusana), Sacramento Orcutt grass (Orcuttia viscida), slender Orcutt grass (Orcuttia tenuis), and 16 currently unlisted species and their habitats resulting from development, certain agricultural activities, and species and habitat management actions in the Natomas Basin. The Plan includes a process for covering third party development and agricultural activities within the two jurisdictions that are carried out in conformance with the Plan.

This notice describes the proposed action and possible alternatives, invites public participation in the scoping process for preparation of the joint Environmental Impact Statement/Environmental Impact Report, solicits written comments, and identifies the Service official to whom questions and comments concerning the proposed action should be directed.

DATES: Written comments are encouraged and should be received on or before January 16, 2001.

Public Meeting: The Service, City, and Sutter County will hold public scoping meetings on January 3, 2001, 2:00 p.m. to 5:00 p.m., Holt Tractor Manufacturing, large conference room, 7310 Pacific Avenue, Pleasant Grove, California; and, January 4, 2001, 2:00 p.m. to 5:00 p.m. and 6:00 p.m. to 8:00 p.m., City of Sacramento, 1231 I Street, First Floor, Room 102, Sacramento, California. Verbal and written comments will be accepted at the meetings. For additional meeting information, contact Vicki Campbell, Division Chief, Conservation Planning at (916) 414-6600.

ADDRESSES: Information, written comments, or questions related to the preparation of the Environmental Impact Statement/Environmental Impact Report and the National Environmental Policy Act process should be submitted to Vicki Campbell, Division Chief, Conservation Planning, U.S. Fish and Wildlife Service, Sacramento Fish and Wildlife Office, 2800 Cottage Way, W-2605, Sacramento, California 95825; FAX (916) 414-6713. All comments received, including names and addresses, will become part of the official administrative record and may be made available to the public.

FOR FURTHER INFORMATION CONTACT: Lori Rinek or Kelly Hornaday, Fish and Wildlife Biologists, Sacramento Fish and Wildlife Office at (916) 414-6600. Persons wishing to obtain background materials should contact Grace Hovey, City of Sacramento, 1231 I Street, Suite 300, Sacramento, California 85814 at (916) 264-7601, or Jeff Pemstein, Sutter County, 10461 Old Placerville Road, Suite 110, Sacramento, California 95827 at (916) 361-8384, extension 203.

SUPPLEMENTARY INFORMATION:

Background

Section 9 of the Act and Federal regulation prohibit the “take” of animal species listed as endangered or threatened. Take is defined under the Act as harass, harm, pursue, hunt, shoot, wound, kill, trap, capture or collect listed animal species, or attempt to engage in such conduct (16 U.S.C. 1538). However, under limited circumstances, the Service may issue permits to authorize “incidental take” of listed animal species. “Incidental take” is defined by the Act as take that is incidental to, and not the purpose of, carrying out an otherwise lawful activity. Regulations governing permits for threatened species and endangered species, respectively, are at 50 CFR 17.32 and 50 CFR 17.22.

Prior to adoption of the Plan and the Service's issuance of the Permit to the City in December 1997, an Environmental Assessment was prepared by the Service in accordance with the National Environmental Policy Act and a Negative Declaration was prepared by the City pursuant to the California Environmental Quality Act. A Federal court ruling on August 15, 2000, held that the Service's decisions to issue the Permit to the City and its decision not to prepare an Environmental Impact Statement for the project were arbitrary and capricious. The City and Sutter County are preparing a revised Plan for the Natomas Basin that will address the court's concerns and support the issuance of Permits to both the City and Sutter County. The goals of the Plan, as revised, are to conserve listed and unlisted species and their habitat in the basin while accommodating compatible development and certain on-going agricultural activities.

The Plan study area comprises the entire 53,341-acre Natomas Basin within both Sacramento and Sutter Counties, California. Agriculture is the dominant land use in the Natomas Basin. The predominant crops are rice, corn, sugar beets, grain, tomatoes, and pasture land. Natural and uncultivated vegetation types are interspersed throughout the agricultural areas of the Natomas Basin. Natural areas are found primarily along irrigation canals, drainage ditches, pasture lands, and uncultivated fields. Narrow strips of emergent vegetation and/or wooded riparian areas are associated with borders of the irrigation canals and drainage ditches.

Portions of the Natomas Basin that are within the jurisdiction of the City were included in the original December 1997 Plan and Permit. The City is seeking re-issuance of its Permit for urban development activities and certain on-going rice farming activities, and Sutter County is seeking issuance of a Permit for urban development and rice farming in its portion of the Natomas Basin. In addition, a separate Permit application is under review by the Service for the Metro Air Park Property Owners Association. The Metro Air Park application proposes participation in the Basin-wide conservation program. The Metro Air Park Permit would cover the urbanization of approximately 2,000 acres of land within the Natomas Basin portion of unincorporated Sacramento County. The total acreage within the basin for which take resulting from urban development activities is being sought under the revised Natomas Basin Plan and the Metro Air Park Plan is 17,500 acres.

Under the Plan, the effects of urbanization and other activities are expected to be minimized and mitigated through the City and Sutter County's participation in a Basin-wide conservation program, which will be described in the revised Plan. The focus of this Basin-wide conservation program is the preservation and enhancement of ecological communities that support species associated with wetland and upland habitats. Through the payment of development fees, one-half acre of mitigation land is expected to be established for every acre of land developed within the Basin. The mitigation land will be acquired by the Natomas Basin Conservancy, a non-profit conservation organization established in 1998 to implement the original Plan. Mitigation fee amounts, and the mitigation and minimization strategies will be subject to the adjustment required under the Plan, as revised. The Plan also contains take avoidance and minimization measures that include the requirements for developers and landowners to conduct pre-construction surveys and to carry out minimization measures prior to site development.

The City, County, and Service have selected CH2M Hill to prepare the joint Draft Environmental Impact Statement/Environmental Impact Report. The Environmental Impact Statement will be prepared in compliance with the National Environmental Policy Act and the Environmental Impact Report will be prepared in compliance with the California Environmental Quality Act. Although CH2M Hill will prepare the Draft Environmental Impact Statement/Environmental Impact Report, the Service will be responsible for the scope and content of the Environmental Impact Statement, and the City and County will be responsible for the scope and content of the Environmental Impact Report.

The Environmental Impact Statement/Environmental Impact Report will consider the proposed action (issuance of section 10(a)(1)(B) Endangered Species Act permits to the City and Sutter County), and a reasonable range of alternatives as summarized below. Plan components related to the court's ruling that will be addressed, include the following:

1. The Plan's mitigation fee structure, mitigation land ratio, and rice farming best management practices;

2. The viability of the Plan if fewer than all of the three jurisdictions with land in the basin participate in the Plan with respect to mitigation fees, the quality and location of habitat that would be lost and preserved under the Plan, and the impacts to the covered species and their habitats;

3. Analysis of the species and the quality, quantity and location of habitat within each jurisdiction;

4. Analysis of the effect on giant garter snakes if the Plan's goals of large, connected blocks of reserve lands cannot be met, and the design of a process to be built into the plan to assure its habitat goals are achieved;

5. Analysis of the midcourse review procedure incorporated into the plan to respond to new information and address implementation issues if the City (or Sutter County) is the only permittee; and

6. Analysis of the effectiveness of the monitoring and adaptive management provisions of the Plan if the City (or Sutter County) is the sole permittee.

Potential alternatives may include a decreased development alternative, an increased mitigation ratio alternative, and a No Action alternative. Under the No Action alternative, the Service would not issue section 10(a)(1)(B) permits to the City and Sutter County in the Natomas Basin.

Environmental review of the revised Plan will be conducted in accordance with the requirements of the 1969 National Environmental Policy Act, as amended (42 U.S.C. 4321 et seq.), National Policy Act regulations (40 CFR parts 1500-1508), other applicable regulations, and Service procedures for compliance with those regulations. This notice is being furnished in accordance with section 1501.7 of the National Environmental Policy Act to obtain suggestions and information from other agencies and the public on the scope of issues to be addressed in the Environmental Impact Statement/Environmental Impact Report.

Comments and participation in the scoping process are hereby solicited. The 1997 Plan, upon which the revised Plan is based, was subject to extensive public review. However, because of likely changes in the Plan, including addition of the benefits of the “No Surprises” regulation (63 FR 8859) and the Services' “Five-Point Policy” (65 FR 35242), additional public review and input is being sought.

The primary purpose of the scoping process is to identify, rather than to debate, significant issues related to the proposed action. Interested persons are encouraged to provide comments on the scope of issues and alternatives to be addressed in the Draft Environmental Impact Statement/Environmental Impact Report.

Dated: December 11, 2000.
Elizabeth H. Stevens,
Deputy Manager, Region 1, California/Nevada Operations Office, Sacramento, California.

[FR Doc. 00-32095 Filed 12-15-00; 8:45 am]

BILLING CODE 4310-55-P